DEPARTMENT OF COMMERCE

International Trade Administration

[A-427-001]

Sorbitol from France: Final Results of Expedited Sunset Review of Antidumping Duty Order

AGENCY: Import Administration, International Trade Administration, Department of Commerce.

ACTION: Notice of Final Results of the Second Expedited Sunset Review of Antidumping Duty Order on Sorbitol from France.

SUMMARY: On February 2, 2004, the Department of Commerce (“the Department”) published the notice of initiation of the second sunset review of the antidumping duty order on sorbitol from France (69 FR 4921) pursuant to section 751(c) of the Tariff Act of 1930, as amended (“the Act”). On the basis of the notice of intent to participate and adequate substantive comments filed on behalf of domestic interested parties and inadequate response from respondent interested parties, we determined to conduct an expedited (120-day) sunset review. As a result of this review, we find that revocation of the antidumping duty order would be likely to lead to continuation or recurrence of dumping at the levels listed below in the section entitled “Final Results of Review.”

EFFECTIVE DATE: June 28, 2004.

FOR FURTHER INFORMATION CONTACT: Hilary E. Sadler, Esq., Office of Policy for Import Administration, International Trade Administration, U.S. Department of Commerce, 14th Street and Constitution Avenue, NW, Room 2837, Washington, DC, 20230; telephone: (202) 482-4340.

SUPPLEMENTARY INFORMATION:

Background

On February 2, 2004, the Department published the notice of initiation of the second sunset review of the antidumping duty order on sorbitol from France pursuant to section 751(c) of the Act.¹ The Department received the Notice of Intent to Participate on behalf of SPI Polyols, Inc. (“SPI”), Archer Daniels Midland Company (“ADM”), and Roquette America (“RA”), the domestic interested parties, within the deadline specified in section 351.218(d)(1)(I) of the Department's Regulations (“Sunset Regulations”). ADM and SPI claimed interested party status under section 771(9)(C) of the Act, as domestic producers of sorbitol. RA claimed interested party status as a domestic producer and as an importer of the subject merchandise. We received a complete substantive responses from all domestic interested parties within the 30-day deadline specified in the Sunset Regulations under section 351.218(d)(3)(i).

¹ Initiation of Five-Year (Sunset) Reviews, 69 FR 4921 (February 2, 2004).

We received a substantive response from one respondent interested party, Amylum France SAS (“Amylum”), in this proceeding. Amylum's response accounted for less than 50 percent of the exports of sorbitol from France to the United States.² As a result, pursuant to section 751(c)(5)(A) of the Act and 19 CFR 351.218(e)(2)(i), the Department conducted an expedited (120-day) sunset review of this finding.

² Memorandum to Ronald K. Lorentzen, Sunset Review of Sorbitol from France: Adequacy of Respondent Interested Party Response to the Notice of Initiation (March 16, 2004).

Scope of Review

The products covered in this order are shipments of crystalline sorbitol (“sorbitol”), a polyol produced by the hydrogenation of sugars (glucose), used in the production of sugarless gum, candy, groceries, and pharmaceuticals. The above-described sorbitol is classified under HTS subheading 2905.44.00. The HTS subheadings are provided for convenience and for customs purposes. The written description remains dispositive.

Analysis of Comments Received

All issues raised in this case are addressed in the “Issues and Decision Memorandum” (“Decision Memo”) from Ronald K. Lorentzen, Acting Director, Office of Policy, Import Administration, to James J. Jochum, Assistant Secretary for Import Administration, dated June 15, 2004, which is hereby adopted by this notice. The issues discussed in the Decision Memo include the likelihood of continuation or recurrence of dumping and the magnitude of the margin likely to prevail if the finding were to be revoked. Parties can find a complete discussion of all issues raised in this review and the corresponding recommendations in this public memorandum, which is on file in room B-099 of the main Commerce Building.

In addition, a complete version of the Decision Memo can be accessed directly on the Web at http://ia.ita.doc.gov/frn, under the heading “June 2004.” The paper copy and electronic version of the Decision Memo are identical in content.

Final Results of Review

We determine that revocation of the antidumping duty finding on sorbitol from France would be likely to lead to continuation or recurrence of dumping at the following weighted-average percentage margins:

Manufacturers/Exporters/Producers | Weighted-Average Margin Percent
Roquette Freres | 2.9
All Others | 2.9

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: June 22, 2004.
James J. Jochum,
Assistant Secretary for Import Administration.

[FR Doc. 04-14618 Filed 6-25-04; 8:45 am]

BILLING CODE 3510-DS-S